DEPARTMENT OF DEFENSE

Office of the Secretary

[Docket ID DOD-2015-OS-0141]

Privacy Act of 1974; System of Records

AGENCY: National Guard Bureau, DoD.

ACTION: Notice to add a new System of Records.

SUMMARY: The National Guard Bureau proposes to add a new system of records INGB 013, entitled “LeaveLog”, matches information for each user to that user's military pay account. Once validated, the information collected is used to automate the submission of leave requests, approval and/or disapproval of leave, and submission of leave transactions to military pay systems.

DATES: Comments will be accepted on or before January 27, 2016. This proposed action will be effective the day following the end of the comment period unless comments are received which result in a contrary determination.

ADDRESSES: You may submit comments, identified by docket number and title, by any of the following methods:

* Federal Rulemaking Portal: http://www.regulations.gov. Follow the instructions for submitting comments.

* Mail: Department of Defense, Office of the Deputy Chief Management Officer, Directorate of Oversight and Compliance, Regulatory and Audit Matters Office, 9010 Defense Pentagon, Washington, DC 20301-9010.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Jennifer Nikolaisen, 111 South George Mason Drive, AH2, Arlington, VA 22204-1373 or telephone: (703) 601-6884.

SUPPLEMENTARY INFORMATION: The National Guard Bureau notices for systems of records subject to the Privacy Act of 1974 (5 U.S.C. 552a), as amended, have been published in the Federal Register and are available from the address in FOR FURTHER INFORMATION CONTACT or from the Defense Privacy and Civil Liberties Division Web site at http://dpcld.defense.gov/. The proposed system report, as required by 5 U.S.C. 552a(r) of the Privacy Act of 1974, as amended, was submitted on December 15, 2015, 2014, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: December 22, 2015.
Aaron Siegel,
Alternate OSD Federal Register Liaison Officer, Department of Defense.

INGB 013

System name:

LeaveLog

System location:

National Guard Bureau, Human Resources Manpower, 111 South George Mason Drive, Arlington, Virginia, 22204-1382.

Categories of individuals covered by the system:

National Guard Service Members in an active duty status based on an individual order for active duty status. This includes Army National Guard and Air National Guard service members.

Categories of records in the system:

Full name, military rank, organization, type of leave, leave start and stop dates, address while on leave, phone number while on leave, leave balance, email address, and Social Security Number (SSN).

Authority for maintenance of the system:

10 U.S.C. 10502, Chief, National Guard Bureau; Army Regulation 600-8-10, Leaves and Passes; Air Force Instruction 36-3003, Military Leave Program; and E.O. 9397 (SSN), as amended.

Purpose(s):

The system matches information for each user to access their military pay account. Once validated, the information collected is used to automate the submission of leave requests, approval and/or disapproval of leave, and submission of leave transactions to military pay systems.

Routine uses of records maintained in the system, including categories of users and the purposes of such uses:

In addition to those disclosures generally permitted under 5 U.S.C. 552a(b) of the Privacy Act of 1974, as amended, the records contained therein may specifically be disclosed outside the DoD as a routine use pursuant to 5 U.S.C. 552a(b)(3) as follows:

The DoD Blanket Routine Uses set forth at the beginning of the National Guard Bureau's compilation of systems of records notices may apply to this system. The complete list of DoD blanket routine uses can be found online at: http://dpcld.defense.gov/Privacy/SORNsIndex/BlanketRoutineUses.aspx.

Policies and practices for storing, retrieving, accessing, retaining, and disposing of records in the system:

Storage:

All records are electronic and are stored in a database with encryption for data at rest.

Retrievability:

Records are retrieved using the SSN, first and last name of the individual, or the organization to which the individual belongs.

Safeguards:

Records are protected from unauthorized disclosure by storage in areas accessible only to authorized personnel within buildings secured by locks or guards. Access to data by the users is restricted by the Web application itself and limited by user identification or authentication. User roles define user privileges and functions within the application. In order to access the system, users must have a DoD Common Access Card (CAC) which contains a digital certificate and validates their identity.

Retention and disposal:

Disposition pending (treat records as permanent until the National Archives and Records Administration has approved the retention and disposition schedule.

System manager(s) and address:

National Guard Bureau, Human Resources Manpower, 111 South George Mason Drive (2 East), Arlington, VA 22204-1382.

Notification procedure:

Individuals seeking to determine whether information about themselves is contained in this system can write to the National Guard Bureau, Human Capital Management Office, 111 South George Mason Drive (2 East), Arlington, VA 22204-1382.

Written requests must include his or her full name, period of duty, and full mailing address in order to receive a response.

In addition, the requester must provide a notarized statement or an unsworn declaration made in accordance with 28 U.S.C. 1746, in the following format:

If executed outside the United States: `I declare (or certify, verify, or state) under penalty of perjury under the laws of the United States of America that the foregoing is true and correct. Executed on (date). (Signature)'.

If executed within the United States, its territories, possessions, or commonwealths: `I declare (or certify, verify, or state) under penalty of perjury that the foregoing is true and correct. Executed on (date). (Signature)'.

Record access procedures:

Individuals seeking access to records about themselves contained in this system can write to the National Guard Bureau, Human Capital Management Office, 111 South George Mason Drive (2 East), Arlington, VA 22204-1382.

Written requests must include his or her full name, period of duty, and full mailing address in order to receive a response.

In addition, the requester must provide a notarized statement or an unsworn declaration made in accordance with 28 U.S.C. 1746, in the following format:

If executed outside the United States: `I declare (or certify, verify, or state) under penalty of perjury under the laws of the United States of America that the foregoing is true and correct. Executed on (date). (Signature)'.

If executed within the United States, its territories, possessions, or commonwealths: `I declare (or certify, verify, or state) under penalty of perjury that the foregoing is true and correct. Executed on (date). (Signature)'.

Contesting record procedures:

The National Guard Bureau rules for accessing records, for contesting contents, and appealing initial agency determinations are published at 32 CFR part 329 or may be obtained from the system manager.

Record source categories:

Information is obtained from the individual, the Defense Joint Military Pay System—Active Component (DJMS-AC), and the Defense Joint Military Pay System—Reserve Component (DJMS-RC).

Exemptions Claimed for the System:

None.

[FR Doc. 2015-32557 Filed 12-24-15; 8:45 am]

BILLING CODE 5001-06-P